DEPARTMENT OF COMMERCE

National Oceanic and Atmospheric Administration

50 CFR Part 679

[Docket No. 0906261095-1339-03]

RIN 0648-AX97

Groundfish Fisheries of the EEZ Off Alaska; Pacific Halibut Fisheries; CDQ Program; Bering Sea and Aleutian Islands King and Tanner Crab Fisheries; Recordkeeping and Reporting

AGENCY: National Marine Fisheries Service (NMFS), National Oceanic and Atmospheric Administration (NOAA), Commerce.

ACTION: Final rule.

SUMMARY: NMFS issues this rule to revise recordkeeping and reporting regulations and make other miscellaneous revisions. The revisions include adding a requirement that the Registered Crab Receiver record in eLandings the region in which the stationary floating processor is located at time of crab delivery; standardizing reporting time limits for recording discard, disposition, product, and other required information in the daily fishing logbook, daily cumulative production logbook, eLandings, or the electronic logbook so that the information corresponds with fishing and processing operations; incorporating miscellaneous edits and corrections to regulatory text and tables, including standardizing the use of the terms “recording,” “submitting,” “landings,” and “landing;” and reinstating regulations that were inadvertently removed in a previous final rule about locations where NMFS will conduct scale inspections. This action promotes the goals and objectives of the fishery management plans, the Magnuson-Stevens Fishery Conservation and Management Act, and other applicable laws.

DATES: Effective August 10, 2011.

ADDRESSES: Electronic copies of this rule, the Regulatory Impact Review (RIR), and the categorical exclusion memorandum prepared for this action may be obtained from the Alaska Region Web site at http://alaskafisheries.noaa.gov.

Written comments regarding the burden-hour estimates or other aspects of the collection-of-information requirements contained in this rule may be submitted by mail to NMFS, Alaska Region, P.O. Box 21668, Juneau, AK 99802-1668, Attn: Ellen Sebastian, Records Officer; in person at NMFS, Alaska Region, 709 West 9th Street, Room 420A, Juneau, Alaska; and by e-mail to OIRA_Submission@omb.eop.gov, or by fax to 202-395-7285.

FOR FURTHER INFORMATION CONTACT: Patsy A. Bearden, 907-586-7008.

SUPPLEMENTARY INFORMATION: NMFS manages the U.S. groundfish fisheries of the exclusive economic zone off Alaska under the Fishery Management Plan for Groundfish of the Gulf of Alaska and the Fishery Management Plan for Groundfish of the Bering Sea and Aleutian Islands Management Area (BSAI FMP). With Federal oversight, the State of Alaska manages the commercial king crab and Tanner crab fisheries under the Fishery Management Plan for Bering Sea/Aleutian Islands king and Tanner Crabs. The fishery management plans (FMPs) were prepared by the North Pacific Fishery Management Council and approved by the Secretary of Commerce under authority of the Magnuson-Stevens Fishery Conservation and Management Act, 16 U.S.C. 1801 et seq. The FMPs are implemented by regulations at 50 CFR parts 679 and 680. General regulations that pertain to U.S. fisheries appear at subpart H of 50 CFR part 600.

Management of the Pacific halibut fisheries in and off Alaska is governed by an international agreement, the “Convention Between the United States of America and Canada for the Preservation of the Halibut Fishery of the Northern Pacific Ocean and Bering Sea,” (Convention) which was signed in Ottawa, Canada, on March 2, 1953, and was amended by the “Protocol Amending the Convention,” signed in Washington, DC, on March 29, 1979. The Convention is implemented in the United States by the Northern Pacific Halibut Act of 1982.

The Interagency Electronic Reporting System, with its data entry component, eLandings, was implemented with a final rule published March 2, 2005 (70 FR 10174), for the Crab Rationalization (CR) Program. The use of eLandings was implemented for groundfish fisheries and the Individual Fishing Quota (IFQ) Program through a final rule published December 15, 2008 (73 FR 76136).

Since implementation and use of eLandings, NMFS has identified minor regulatory changes needed to improve and update the methods and procedures of eLandings, and to improve the flexibility and efficiency of recordkeeping and reporting requirements for NMFS Alaska Region fishery programs.

This final rule revises regulations, as follows:

• Standardizes data entry time limits for recording discard, disposition, product, and other required information in the daily fishing logbook, daily cumulative production logbook, or eLandings to correspond with actual fishing operations.

• Sets time limits for recording information in the paper catcher vessel daily fishing logbooks (DFLs) and mothership and catcher/processor DCPLs.

• Sets time limits to submit landing reports and production reports to NMFS through eLandings.

• Sets time limits to submit electronic logbook (ELB) information through eLandings.

• Revises information to be recorded or submitted “by noon of the following day” to read “by midnight of the following day.”

• Revises “noon” and “midnight” in Alaska local time (A.l.t.) to read 1200 hours, A.l.t., and 2400 hours, A.l.t., respectively.

• Changes the deadline for a vessel operator's signature entry in the DFLs, DCPLs, and ELBs from noon to midnight.

• Revises the deadline for printing a copy of the ELB logsheet from noon to midnight each day.

• Revises the submittal time limit for the delivery “landed scale weight” entry on SSP or SFP eLandings landing reports.

• Revises the time limit to record scale weights in the DCPL for catcher/processors participating in the Central Gulf of Alaska Rockfish Program.

• Revises deadlines for recording scale weights and CDQ group number in the catcher/processor trawl DCPL.

• Removes the requirement to record the date of landing in the SSP or SFP landing report.

• Clarifies extension of time limits for eLandings production reports from SSPs or SFPs not taking deliveries over the weekend.

• Corrects reporting time limit tables for DCPLs and eLandings.

• Adds a requirement that the Registered Crab Receiver record the region in which the stationary floating processor is located at the time of crab delivery.

• Makes non-substantive clarification edits and corrections to regulatory text to include the recording of information in a logbook versus submitting information through eLandings, record information about crew and observers in eLandings, and the correct use of the terms “landings” and “landing.”

• Makes non-substantive clarifications to regulatory tables.

• Removes detailed NMFS mail, fax, and delivery addresses from regulations and replace them with one paragraph stating that the form must be submitted in accordance with instructions on the form.

• Provides separate species codes for Arrowtooth flounder, Atheresthes stomias, species code 121, and for Kamchatka flounder, Atheresthes evermanni, species code 117.

• Reinstates regulations about scale inspection locations that were inadvertently removed in a previous rule.

These changes are intended to remove inconsistencies in the current regulations describing eLandings. These changes will reduce potential confusion on the part of industry participants, other interested parties, and the public at large. In addition, these changes will reduce costs for processors and Registered Crab Receivers using eLandings. The fishing industry currently uses eLandings to comply with recordkeeping and reporting requirements, so the time and knowledge it takes to complete an eLandings data entry is already established. The entities upon which these changes are imposed are existing registered eLandings users.

These changes will provide benefits, by clarifying eLandings requirements for industry participants and other interested parties, and by increasing the efficiency of the eLandings process. The overall impact on the fishing industry will be increased operational flexibility. There are no economic impacts from these proposed regulatory changes.

NMFS published the proposed rule for this action in the Federal Register on February 11, 2011 (76 FR 7788), with a public comment period that closed March 14, 2011. No comments were received during this comment period.

The principal elements of this regulatory amendment are described and explained in detail in the preamble to the proposed rule and are not repeated here.

NMFS made no changes from the proposed rule to the final rule.

Classification

The Administrator, Alaska Region, NMFS, determined that the amendment is necessary for the conservation and management of the BSAI and GOA groundfish fisheries and that it is consistent with the Magnuson-Stevens Fishery Conservation and Management Act and other applicable laws.

This final rule has been determined to be not significant for purposes of Executive Order 12866.

The Chief Counsel for Regulation of the Department of Commerce certified to the Chief Counsel for Advocacy of the Small Business Administration during the proposed rule stage that this action will not have a significant economic impact on a substantial number of small entities. The factual basis for the certification was published in the proposed rule and is not repeated here. No comments were received regarding this certification, and no changes have been made from the proposed rule. As a result, a regulatory flexibility analysis was not required and none was prepared.

Collection-of-Information Requirements

This final rule contains collection-of-information requirements subject to the Paperwork Reduction Act (PRA) and which have been approved by the Office of Management and Budget (OMB). Public reporting burden estimates per response for these requirements are listed by OMB control number.

OMB Control Number 0648-0213

Public reporting burden is estimated to average per response: 18 minutes for catcher vessel trawl gear DFL; 28 minutes for catcher vessel longline or pot gear DFL; 31 minutes for mothership DCPL; 41 minutes for catcher/processor longline or pot gear DCPL; and 30 minutes for catcher/processor trawl gear DCPL or ELB.

OMB Control Number 0648-0515

Public reporting burden is estimated to average per response: 15 minutes for eLandings application processor registration; 35 minutes for eLandings landing report; and 20 minutes for catcher/processor or mothership eLandings production report.

OMB Control Number 0648-0330

Public reporting burden is estimated to average per response: 6 minutes for inspection request for an at-sea scale.

Public reporting estimates include the time for reviewing instructions, searching existing data sources, gathering and maintaining the data needed, and completing and reviewing the collection-of-information.

Send comments on these or any other aspects of the collection-of-information to NMFS Alaska Region at the ADDRESSES above, and e-mail to OIRA_Submission@omb.eop.gov, or fax to 202-395-7285.

Notwithstanding any other provision of the law, no person is required to respond to, nor shall any person be subject to a penalty for failure to comply with, a collection-of-information subject to the requirements of the PRA, unless that collection-of-information displays a currently valid OMB control number.

List of Subjects in 50 CFR Part 679

Alaska, Fisheries, Reporting and recordkeeping requirements.

Dated: June 28, 2011.
Samuel D. Rauch III,
Deputy Assistant Administrator for Regulatory Programs, National Marine Fisheries Service.

For the reasons set out in the preamble, 50 CFR part 679 is amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.5,

a. Remove paragraphs (c)(3)(i)(C)(2) and (e)(5)(i)(A)(11);

b. Redesignate paragraph (c)(3)(i)(C)(1) as (c)(3)(i)(C), paragraphs (c)(4)(ii)(B)(2) through (6) as paragraphs (c)(4)(ii)(B)(3) through (7), and paragraph (e)(5)(i)(A)(12) as (e)(5)(i)(A)(11);

c. Revise paragraphs (c)(3)(ii)(A) table heading, (c)(3)(ii)(A)(2), (c)(3)(ii)(B) introductory text, (c)(3)(ii)(B) table heading, (c)(3)(ii)(B)(1), (2), (3), (4), and (5), (c)(4)(ii) heading, (c)(4)(ii)(A) table heading, (c)(4)(ii)(A)(2), (c)(4)(ii)(B) introductory text, (c)(4)(ii)(B) table heading, (c)(4)(ii)(B)(1), newly redesignated (c)(4)(ii)(B)(3) through (6), (c)(6)(ii) heading, (c)(6)(ii) introductory text, (c)(6)(ii) table heading, (c)(6)(ii)(A), (B), (C), (D), and (E), (e)(2)(ii), (e)(4), (e)(5)(i)(B), (e)(5)(ii), (e)(6)(ii), (e)(7)(iii)(C), (e)(8)(iii)(B), (e)(9)(ii), (e)(10)(iv), (e)(11)(i), (e)(12), (f)(2)(iii)(B)(1), and (f)(3)(i)(C); and

d. Add paragraphs (c)(4)(ii)(B)(2) and (e)(8)(iii)(D).

The additions and revisions read as follows:

§ 679.5 Recordkeeping and reporting (R&R).

* * * * *

(c) * * *

(3) * * *

(ii) * * *

(A) * * *

Reporting Time Limits, Catcher Vessel Longline or Pot Gear
Required information | Time limit for recording
* * * * * * *
(2) Discard and disposition information | By 2400 hours, A.l.t., each day to record the previous day's discard and disposition information.
* * * * * * *

(B) Catcher/processor. The operator of a catcher/processor using longline or pot gear must record in the DCPL or submit via eLandings the information from the following table for each set within the specified time limit:

Reporting Time Limits, Catcher/Processor Longline or Pot Gear
Required information | Record in DCPL | Submit via eLandings | Time limit for reporting
(1) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | X |  | Within 2 hours after completion of gear retrieval.
(2) Discard and disposition information |  | X | By 2400 hours, A.l.t., each day to record the previous day's discard and disposition information.
(3) Product information |  | X | By 2400 hours, A.l.t., each day to record the previous day's production information.
(4) All other required information | X |  | By 2400 hours, A.l.t., of the day following completion of production.
(5) Operator sign the completed logsheets | X |  | By 2400 hours, A.l.t., of the day following the week-ending date of the weekly reporting period.
* * * * * * *

* * * * *

(4) * * *

(ii) Reporting time limits.

(A) * * *

Reporting Time Limits, Catcher Vessel Trawl Gear
Required information | Time limit for recording
* * * * * * *
(2) Discard and disposition information | By 2400 hours, A.l.t., each day to record the previous day's discard and disposition information.
* * * * * * *

(B) Catcher/processor. The operator of a catcher/processor using trawl gear must record in the DCPL or submit via eLandings the information in the following table for each haul within the specified time limit:

Reporting Time Limits, Catcher/Processor Trawl Gear
Required information | Record in DCPL | Submit via eLandings | Time limit for reporting
(1) Management program, except CDQ Program, haul number, time and date gear set, time and date gear hauled, begin and end positions of gear, and, if not required to weigh catch on a scale approved by NMFS, total estimated hail weight for each haul | X |  | Within 2 hours after completion of gear retrieval.
(2) CDQ group number (if applicable) and, if required to weigh catch on a scale approved by NMFS, the scale weight of total catch for each haul | X |  | Within 2 hours after completion of weighing all catch in the haul.
(3) Discard and disposition information |  | X | By 2400 hours, A.l.t., each day to record the previous day's discard and disposition information.
(4) Product information |  | X | By 2400 hours, A.l.t., each day to record the previous day's production information.
(5) All other required information | X |  | By 2400 hours, A.l.t., of the day following completion of production to record all other required information.
(6) Operator sign the completed logsheets | X |  | By 2400 hours, A.l.t., of the day following the week-ending date of the weekly reporting period.
* * * * * * *

* * * * *

(6) * * *

(ii) Reporting time limits. The operator of a mothership must record in the DCPL or submit via eLandings the information in the following table for each groundfish delivery within the specified time limit:

Reporting Time Limits, Mothership
Required information | Record in DCPL | Submit via eLandings | Time limit for reporting
(A) All catcher vessel or buying station delivery information | X |  | Within 2 hours after completion of receipt of each groundfish delivery.
(B) Product information |  | X | By 2400 hours, A.l.t., each day to record the previous day's production information.
(C) Discard or disposition information |  | X | By 2400 hours, A.l.t., each day to record the previous day's discard/disposition.
(D) All other required information | X |  | By 2400 hours, A.l.t., of the day following completion of production.
(E) Operator sign the completed logsheets | X |  | By 2400 hours, A.l.t., of the day following the week-ending date of the weekly reporting period.
* * * * * * *

* * * * *

(e) * * *

(2) * * *

(ii) Upon registration acceptance, the User must print, sign, and mail the User Agreement Form to NMFS at the address or fax number shown on the form. Confirmation will be e-mailed to indicate that the User is registered, authorized to use eLandings, and that the UserID and User's account are enabled.

* * * * *

(4) Information entered automatically for eLandings landing report. eLandings autofills the following fields from processor registration records (see paragraph (e)(2) of this section): UserID, processor company name, business telephone number, e-mail address, port of landing, operation type (for catcher/processors, motherships, or SFPs), ADF&G processor code, and Federal permit number. The User must review the autofilled cells to ensure that they are accurate for the landing that is taking place. eLandings assigns a unique landing report number and an ADF&G electronic fish ticket number upon completion of data entry.

* * * * *

(5) * * *

(i) * * *

(B) Landed scale weight. The User for a shoreside processor or SFP must record landed scale weight (to the nearest pound) for all retained species from groundfish deliveries by species code and delivery condition code. Obtain actual weights for each groundfish species received and retained by:

(1) Sorting according to species codes and direct weighing of that species, or

(2) Weighing the entire delivery and then sorting and weighing the groundfish species individually to determine their weights.

* * * * *

(ii) Submittal time limit. The User for a shoreside processor or SFP must submit a landing report containing the information described in paragraph (e)(5)(i) of this section for each groundfish delivery from a specific vessel by 1200 hours, A.l.t., of the day following completion of the delivery. If the landed scale weight required in paragraph (e)(5)(i)(C) of this section is not available by this deadline, the User must transmit an estimated weight for each species by 1200 hours, A.l.t., of the day following completion of the delivery, and must submit a revised landing report with the landed scale weight for each species by 1200 hours, A.l.t., of the third day following completion of the delivery.

* * * * *

(6) * * *

(ii) Submittal time limit. The User for a mothership must submit a landing report containing the information described at paragraph (e)(6)(i) of this section for each groundfish delivery from a specific vessel by 2400 hours, A.l.t., of the day following the delivery.

* * * * *

(7) * * *

(iii) * * *

(C) Landing completion. The User for the Registered Buyer must submit an IFQ landing report, containing the information described in this paragraph (e)(7), within six hours after all IFQ halibut, CDQ halibut, and IFQ sablefish are offloaded from a specific vessel and prior to shipment or transfer of said fish from the landing site.

* * * * *

(8) * * *

(iii) * * *

(B) Operation type and port code—(1) If a shoreside processor, the port code is pre-filled automatically (see § 679.5(e)(4)).

(2) If a catcher/processor, the at-sea operation type is pre-filled automatically.

(3) If an SFP and crab delivery is received in port, the at-sea operation type is pre-filled automatically (see § 679.5(e)(4)) and the User must enter the port code from Table 14a to this part.

(4) If an SFP and crab delivery is received at sea, the at-sea operation type is pre-filled automatically (see § 679.5(e)(4)) and the User must enter the appropriate crab regional designation (see § 680.40(b)(2)), shown below:

CR Crab Regional Designations
N—North Region | Landed in the Bering Sea subarea north of 56°20′ N. lat.
S—South Region | Landed in any area in Alaska, not in the North Region.
W—West Region | West of 174° W. long. Only applicable for western Aleutian Islands golden king crab (WAG).

* * * * *

(D) Crew and observer information—(1) For crew size, enter the number of licensed crew aboard the vessel, including the operator.

(2) Number of observers aboard.

* * * * *

(9) * * *

(ii) Submittal time limits—(A) When active pursuant to paragraph (c)(5)(ii) of this section, the User for a shoreside processor or SFP must submit a production report by 1200 hours, A.l.t., each day to record the previous day's production information.

(B) If a shoreside processor or SFP using eLandings is not taking deliveries over a weekend, the User or manager may submit the eLandings production report from Saturday and Sunday to NMFS by 1200 hours, A.l.t., on the following Monday.

(10) * * *

(iv) Submittal time limits—(A) Except as described in paragraph (e)(10)(iv)(B) of this section, when a mothership is active pursuant to paragraph (c)(6)(iv) of this section, a catcher/processor longline or pot gear is active pursuant to paragraph (c)(3)(iv)(B) of this section, or a catcher/processor trawl gear is active pursuant to paragraph (c)(4)(iv)(B) of this section, the User for a mothership or catcher/processor must submit a production report by 2400 hours, A.l.t., each day to record the previous day's production information.

(B) If a vessel is required to have 100 percent observer coverage or more, the User may submit a production report for Friday, Saturday, and Sunday no later than 2400 hours, A.l.t., on the following Monday.

(11) Printing of landing reports, landing receipts, and production reports—(i) The User daily must print a paper copy onsite or onboard of:

(A) Each landing report.

(B) If IFQ halibut, IFQ sablefish, or CDQ halibut, each sablefish/halibut IFQ landing receipt.

(C) If IFQ crab, each crab IFQ landing receipt.

(D) Each production report.

* * * * *

(12) Retention and inspection of landing reports, landing receipts, and production reports—(i) The User daily must retain a printed paper copy onsite or onboard of:

(A) Each landing report.

(B) If IFQ halibut, IFQ sablefish, or CDQ halibut, each sablefish/halibut IFQ landing receipt.

(C) If IFQ crab, each crab IFQ landing receipt.

(D) Each production report.

(ii) The User must make available the printed copies upon request of NMFS observers and authorized officers as indicated at paragraph (a)(5) of this section.

(f) * * *

(2) * * *

(iii) * * *

(B) * * *

(1) Recording time limits. The time limits for recording applicable information in the ELBs are the same as the recording time limits for DFLs and DCPLs in paragraphs (c)(3), (c)(4), and (c)(6) of this section.

* * * * *

(3) * * *

(i) * * *

(C) Print a copy of the ELB logsheet for the observer's use, if an observer is onboard the vessel, by 2400 hours, A.l.t., each day to record the previous day's ELB information.

* * * * *

3. In § 679.28, paragraph (b)(2)(v) is revised to read as follows.

§ 679.28 Equipment and operational requirements.

* * * * *

(b) * * *

(2) * * *

(v) Where will scale inspections be conducted? Scales inspections by inspectors paid by NMFS will be conducted on vessels tied up at docks in Kodiak, Alaska; Dutch Harbor, Alaska; and in the Puget Sound area of Washington State.

§§ 679.5, 679.28, 679.32, 679.40, 679.41, 679.42, 679.45, 679.80, 679.90, 679.94 [Amended]

4. At each of the locations shown in the “Location” column, remove the phrase indicated in the “Remove” column and replace it with the phrase indicated in the “Add” column for the number of times indicated in the “Frequency” column.

Location | Remove | Add | Frequency
§ 679.5(c)(3)(i)(B)(2) | sablefish landings data | sablefish landing data | 1
§ 679.5(c)(3)(ii) heading | Data entry time limits | Reporting time limits | 1
§ 679.5(c)(4)(i)(B) | catch-by-haul landings information | catch-by-haul landing information | 1
§ 679.5(c)(4)(iv)(B)(2) | record in eLandings | submit in eLandings | 1
§ 679.5(c)(4)(v)(C) | noon | 2400 hours, A.l.t. | 1
§ 679.5(e)(1)(i) | landings data | landing data | 1
§ 679.5(e)(1)(iii) heading | Reporting of IFQ crab, IFQ halibut, and IFQ sablefish | IFQ manual landing report | 1
§ 679.5(e)(5) heading | SFP landings report | SFP landing report | 1
§ 679.5(e)(5) introductory text | daily landings report | daily landing report | 1
§ 679.5(e)(6) heading | Mothership landings report | Mothership landing report | 1
§ 679.5(e)(6) introductory text | daily landings report | daily landing report | 1
§ 679.5(e)(7) heading | Registered Buyer landings report | Registered Buyer landing report | 1
§ 679.5(e)(7) introductory text | landings reports | landing reports | 1
§ 679.5(e)(7)(ii)(A) and (iii)(B) | groundfish IFQ landing receipt | sablefish/halibut IFQ landing receipt | 1
§ 679.5(e)(8) heading | Registered Crab Receiver (RCR) IFQ crab landings report | Registered Crab Receiver (RCR) IFQ crab landing report | 1
§ 679.5(e)(8)(i) and (ii) | landings report | landing report | 1
§ 679.5(e)(8)(iii) | must enter the following information (see paragraphs (e)(8)(iii)(A) through (C) of this section) into eLandings | must submit information described at paragraphs (e)(8)(iii)(A) through (D) of this section into eLandings | 1
§ 679.5(e)(8)(vi)(B) | noon | 1200 hours, A.l.t. | 1
§ 679.5(f)(3)(i)(A) | noon | 2400 hours, A.l.t. | 1
§ 679.5(f)(4)(i) | noon | 2400 hours, A.l.t. | 1
§ 679.28(d)(8)(i) introductory text, § 679.28(i)(3) introductory text, § 679.32(c)(1), § 679.41(m)(3) introductory text, § 679.42(d)(2)(iii) introductory text, § 679.80(e)(2), § 679.90(b)(2), § 679.90(f)(2), and § 679.94(a)(3) | http://www.fakr.noaa.gov | http://alaskafisheries.noaa.gov | 1
§ 679.40(h)(2) | groundfish IFQ landing receipt | sablefish/halibut IFQ landing receipt | 1
§ 679.45(a)(4)(iii) | http://www.fakr.noaa.gov/ram | http://alaskafisheries.noaa.gov/ram | 1

5. Revise Table 1a to part 679 to read as follows:

Table 1a to Part 679—Delivery Condition* and Product Codes
[General Use Codes]
Description | Code
Belly flaps. Flesh in region of pelvic and pectoral fins and behind head (ancillary only) | 19
Bled only. Throat, or isthmus, slit to allow blood to drain | 03
Bled fish destined for fish meal (includes offsite production) DO NOT RECORD ON PTR | 42
Bones (if meal, report as 32) (ancillary only) | 39
Butterfly, no backbone. Head removed, belly slit, viscera and most of backbone removed; fillets attached | 37
Cheeks. Muscles on sides of head (ancillary only) | 17
Chins. Lower jaw (mandible), muscles, and flesh (ancillary only) | 18
Fillets, deep-skin. Meat with skin, adjacent meat with silver lining, and ribs removed from sides of body behind head and in front of tail, resulting in thin fillets | 24
Fillets, skinless/boneless. Meat with both skin and ribs removed, from sides of body behind head and in front of tail | 23
Fillets with ribs, no skin. Meat with ribs with skin removed, from sides of body behind head and in front of tail | 22
Fillets with skin and ribs. Meat and skin with ribs attached, from sides of body behind head and in front of tail | 20
Fillets with skin, no ribs. Meat and skin with ribs removed, from sides of body behind head and in front of tail | 21
Fish meal. Meal from whole fish or fish parts; includes bone meal | 32
Fish oil. Rendered oil from whole fish or fish parts. Record only oil destined for sale and not oil stored or burned for fuel onboard | 33
Gutted, head on. Belly slit and viscera removed | 04
Gutted, head off. Belly slit and viscera removed (May be used for halibut personal use) | 05
Head and gutted, with roe | 06
Headed and gutted, Western cut. Head removed just in front of the collar bone, and viscera removed | 07
Headed and gutted, Eastern cut. Head removed just behind the collar bone, and viscera removed | 08
Headed and gutted, tail removed. Head removed usually in front of collar bone, and viscera and tail removed | 10
Heads. Heads only, regardless where severed from body (ancillary only) | 16
Kirimi (Steak). Head removed either in front or behind the collar bone, viscera removed, and tail removed by cuts perpendicular to the spine, resulting in a steak | 11
Mantles, octopus or squid. Flesh after removal of viscera and arms | 36
Milt. In sacs, or testes (ancillary only) | 34
Minced. Ground flesh | 31
Other retained product. If product is not listed on this table, enter code 97 and write a description with product recovery rate next to it in parentheses | 97
Pectoral girdle. Collar bone and associated bones, cartilage and flesh | 15
Roe. Eggs, either loose or in sacs, or skeins (ancillary only) | 14
Salted and split. Head removed, belly slit, viscera removed, fillets cut from head to tail but remaining attached near tail. Product salted | 12
Stomachs. Includes all internal organs (ancillary only) | 35
Surimi. Paste from fish flesh and additives | 30
Whole fish/ or shellfish/food fish | 01
Wings. On skates, side fins are cut off next to body | 13
SHELLFISH ONLY
Soft shell crab | 75
Bitter crab | 76
Deadloss | 79
Sections | 80
Meat | 81
Note: When using whole fish code, record round weights rather than product weights, even if the whole fish is not used.
* Delivery condition code: Condition of the fish or shellfish at the point it is weighed and recorded on the ADF&G fish ticket.

6. Revise Table 1b to part 679 to read as follows:

Table 1b to Part 679—Discard and Disposition Codes ¹
Description | Code
Confiscation or seized | 63
Deadloss (crab only) | 79
Overage | 62
Retained for future sale | 87
Tagged IFQ Fish (Exempt from debit) | 64
Whole fish/bait, not sold. Used as bait onboard vessel | 92
Whole fish/bait, sold | 61
Whole fish/discard at sea. Whole groundfish and prohibited species discarded by catcher vessels, catcher/processors, motherships, or tenders. DO NOT RECORD ON PTR | 98
Whole fish/discard, damaged. Whole fish damaged by observer's sampling procedures | 93
Whole fish/discard, decomposed. Decomposed or previously discarded fish | 89
Whole fish/discard, infested. Flea-infested fish, parasite-infested fish | 88
Whole fish/discard, onshore. Discard after delivery and before processing by shoreside processors, stationary floating processors, and buying stations and in-plant discard of whole groundfish and prohibited species during processing. DO NOT RECORD ON PTR | 99
Whole fish/donated prohibited species. Number of Pacific salmon or Pacific halibut, otherwise required to be discarded, that is donated to charity under a NMFS-authorized program | 86
Whole fish/fish meal. Whole fish destined for meal (includes offsite production.) DO NOT RECORD ON PTR | 41
Whole fish/personal use, consumption. Fish or fish products eaten on board or taken off the vessel for personal use. Not sold or utilized as bait | 95
Whole fish/sold, for human consumption | 60
Note: When using whole fish codes, record round weights rather than product weights, even if the whole fish is not used.
¹ Disposition Code: The intended use or disposal of the fish or shellfish.

7. Revise Table 2a to part 679 to read as follows:

Table 2a to Part 679—Species Codes: FMP Groundfish
Species description | Code
Atka mackerel (greenling) | 193
Flatfish, miscellaneous (flatfish species without separate codes) | 120
FLOUNDER
Alaska plaice | 133
Arrowtooth | 121
Bering | 116
Kamchatka | 117
Starry | 129
Octopus, North Pacific | 870
Pacific cod | 110
Pollock | 270
ROCKFISH
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. variabilis) | 172
Greenstriped (S. elongatus) | 135
Harlequin (S. variegatus) | 176
Northern (S. polyspinis) | 136
Pacific Ocean Perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS
Other (if salmon, spiny dogfish or Pacific sleeper shark—use specific species code) | 689
Pacific sleeper | 692
Salmon | 690
Spiny dogfish | 691
SKATES
Big | 702
Longnose | 701
Other (If longnose or big skate—use specific species code) | 700
SOLE
Butter | 126
Dover | 124
English | 128
Flathead | 122
Petrale | 131
Rex | 125
Rock | 123
Sand | 132
Yellowfin | 127
Squid, majestic | 875
Turbot, Greenland | 134

8. Revise Table 2d to part 679 to read as follows:

Table 2d to Part 679—Species Codes: Non-FMP Species
General use: Species description | General use: Code
Arctic char, anadromous | 521
Dolly varden, anadromous | 531
Eels or eel-like fish | 210
Eel, wolf | 217
GREENLING
Kelp | 194
Rock | 191
Whitespot | 192
Grenadier, giant | 214
Grenadier (rattail) | 213
Jellyfish (unspecified) | 625
Lamprey, pacific | 600
Lingcod | 130
Lumpsucker | 216
Pacific flatnose | 260
Pacific hagfish | 212
Pacific hake | 112
Pacific lamprey | 600
Pacific saury | 220
Pacific tomcod | 250
Poacher (Family Algonidae) | 219
Prowfish | 215
Ratfish | 714
Rockfish, black (GOA) | 142
Rockfish, blue (GOA) | 167
Rockfish, dark | 173
Sardine, Pacific (pilchard) | 170
Sea cucumber, red | 895
Shad | 180
Skilfish | 715
Snailfish, general (genus Liparis and genus Careproctus) | 218
Sturgeon, general | 680
Wrymouths | 211
Shellfish
Abalone, northern (pinto) | 860
Clams
Arctic surf | 812
Cockle | 820
Eastern softshell | 842
Pacific geoduck | 815
Pacific littleneck | 840
Pacific razor | 830
Washington butter | 810
Coral | 899
Mussel, blue | 855
Oyster, Pacific | 880
Scallop, weathervane | 850
Scallop, pink (or calico) | 851
SHRIMP
Coonstripe | 864
Humpy | 963
Northern (pink) | 961
Sidestripe | 962
Spot | 965
Snails | 890
Urchin, green sea | 893
Urchin, red sea | 892

9. Revise Table 3 to part 679 to read as follows:

BILLING CODE 3510-22-P

10. Revise Table 10 to part 679 to read as follows:

11. Revise Table 21 to part 679 to read as follows:

Table 21 to Part 679—Eligible GOA Communities, Halibut IFQ Regulatory Use Areas and Community Governing Body That Recommends the Community Quota Entity
Eligible GOA community | Community governing body that recommends the CQE
May use halibut QS only in halibut IFQ regulatory areas 2C, 3A
Angoon | City of Angoon.
Coffman Cove | City of Coffman Cove.
Craig | City of Craig.
Edna Bay | Edna Bay Community Association.
Elfin Cove | Community of Elfin Cove.
Gustavus | Gustavus Community Association.
Hollis | Hollis Community Council.
Hoonah | City of Hoonah.
Hydaburg | City of Hydaburg.
Kake | City of Kake.
Kasaan | City of Kasaan.
Klawock | City of Klawock.
Metlakatla | Metlakatla Indian Village.
Meyers Chuck | N/A.
Pelican | City of Pelican.
Point Baker | Point Baker Community.
Port Alexander | City of Port Alexander.
Port Protection | Port Protection Community Association.
Tenakee Springs | City of Tenakee Springs.
Thorne Bay | City of Thorne Bay.
Whale Pass | Whale Pass Community Association.
Akhiok | City of Akhiok.
Chenega Bay | Chenega IRA Village.
Chignik | City of Chignik.
Chignik Lagoon | Chignik Lagoon Village Council.
Chignik Lake | Chignik Lake Traditional Council.
Halibut Cove | N/A.
Ivanof Bay | Ivanof Bay Village Council.
Karluk | Native Village of Karluk.
King Cove | City of King Cove.
Larsen Bay | City of Larsen Bay.
Nanwalek | Nanwalek IRA Council.
Old Harbor | City of Old Harbor.
Ouzinkie | City of Ouzinkie.
Perryville | Native Village of Perryville.
Port Graham | Port Graham Village Council.
Port Lions | City of Port Lions.
Sand Point | City of Sand Point.
Seldovia | City of Seldovia.
Tatitlek | Native Village of Tatitlek.
Tyonek | Native Village of Tyonek.
Yakutat | City of Yakutat.

[FR Doc. 2011-16608 Filed 7-8-11; 8:45 am]

BILLING CODE 3510-22-C